DEPARTMENT OF DEFENSE

Office of the Secretary

[Docket ID: DoD-2015-OS-0117]

Privacy Act of 1974; System of Records

AGENCY: Office of the Secretary of Defense, DoD.

ACTION: Notice to alter a System of Records.

SUMMARY: The Office of the Secretary of Defense proposes to alter a system of records, DWHS P45, entitled “OSD/Joint Staff Voluntary Leave Transfer Program Records” to manage the OSD/Joint Staff Voluntary Leave Transfer (VLTP) program.

Employees experiencing a personal or family medical emergency, who have exhausted their own leave, may apply to be a recipient of annual leave donated by other Federal employees, or from leave donors in other Federal agencies eligible to participate in the program.

Employees may donate annual leave to an approved leave recipient in their own agency or in another Federal agency covered by the provisions of the program.

DATES: Comments will be accepted on or before December 4, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/.

The proposed system report, as required by 5 U.S.C. 552a(r) of the Privacy Act of 1974, as amended, was submitted on October 28, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 30, 2015.
Aaron Siegel,
Alternate OSD Federal Register Liaison Officer, Department of Defense.

DWHS P45

System name:

OSD/Joint Staff Voluntary Leave Transfer Program Records (April 4, 2000, 65 FR 17636).

Changes:

* * * * *

System location:

Delete entry and replace with “Washington Headquarters Services (WHS), Human Resources Directorate (HRD), Labor Management and Employee Relations (LMER), 4800 Mark Center Drive, Alexandria, VA 22350-3200.

Decentralized records may also be maintained by Component administrative officers. For a complete list, contact the system manager.”

Categories of individuals covered by the system:

Delete entry and replace with “Civilian employees of the Office of the Secretary of Defense (OSD), WHS and DoD field activities or DoD agencies serviced by WHS, HRD who have volunteered to participate in the voluntary leave transfer program either as a recipient or a donor.”

Categories of records in the system:

Delete entry and replace with “As required by the Defense Finance and Accounting Service (DFAS) systems to effectuate the transfer of leave from the donor's account into the recipient's account, each leave recipient record contains the employee's name, Social Security Number (SSN), employee number, position title, organization, salary, grade, step, leave balance data to include the number of donated leave hours transferred and the number of donated leave hours used, description of the medical emergency to include expected duration and frequency, and the employee's contact information during the period of emergency. The file may also contain medical or physical documentation or certifications, and agency approvals or denials, if applicable.

As required by the DFAS systems to effectuate the transfer of leave from the donor's account to the recipient's account, each donor record contains the employee's name, SSN, employee number, position title, organization, salary, grade, step, leave balance data to include the number of hours to be donated, designated leave, recipient's contact information, and preferences for restoration of unused donated leave, if applicable.”

Authority for maintenance of the system:

Delete entry and replace with “5 U.S.C. 6331 et seq., Definitions; 5 CFR 630, Subpart I, Voluntary Leave Transfer Program; DoD Directive (DoDD) 5110.4, Washington Headquarters Services (WHS); Director of Administration and Management, Administrative Instruction 67, Leave Administration; and E.O. 9397 (SSN), as amended.”

Purpose(s):

Delete entry and replace with “To manage the OSD/Joint Staff Voluntary Leave Transfer (VLTP) program.

Employees experiencing a personal or family medical emergency, who have exhausted their own leave, may apply to be a recipient of annual leave donated by other Federal employees, or from leave donors in other Federal agencies eligible to participate in the program.

Employees may donate annual leave to an approved leave recipient in their own agency or in another Federal agency covered by the provisions of the program.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To the Department of Labor in connection with a claim filed by an employee for compensation due to a job-connected injury or illness.

To the personnel and pay offices of the Federal agency involved to effectuate the leave transfer where leave donor and leave recipient are employed by different Federal agencies.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use:

A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use:

A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Disclosure to the Office of Personnel Management Routine Use: A record from a system of records subject to the Privacy Act and maintained by a DoD Component may be disclosed to the Office of Personnel Management (OPM) concerning information on pay and leave, benefits, retirement deduction, and any other information necessary for the OPM to carry out its legally authorized government-wide personnel management functions and studies.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a DoD Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Electronic storage media.”

Retrievability:

Delete entry and replace with “Records are retrieved by employee name, or SSN.”

Safeguards:

Delete entry and replace with “Electronic records are only accessible to LMER personnel, or approved officials, who require access in order to perform their official duties. Access to electronic records requires a Common Access Card (CAC). Work areas are access controlled by CACs, and security guards protect the building.”

* * * * *

System manager(s) and address:

Delete entry and replace with “Assistant Director, Labor Management and Employee Relations, Human Resources Directorate, 4800 Mark Center Drive, Alexandria, VA 22350-3200.”

Notification procedure:

Delete entry and replace with “Individuals seeking to determine whether information about themselves is contained in this system of records should address written inquiries to Assistant Director for Labor and Management Employee Relations, Human Resources Directorate, 4800 Mark Center Drive, Alexandria, VA 22350-3200.

Signed, written requests should include the full name and SSN and the approximate date the record was completed.”

Record access procedures:

Delete entry and replace with “Individuals seeking access to records about themselves contained in this system of records should address written inquiries to the Office of the Secretary of Defense Freedom of Information Act Requester Service Center, Office of Freedom of Information, 4800 Mark Center Drive, Alexandria, VA 22352-3200.

Signed, written requests for information must include the individual's full name and SSN, the approximate date the record was completed, and the name and number of this System of Records Notice.”

Contesting record procedures:

Delete entry and replace with “The OSD rules for accessing records, for contesting contents and appealing initial agency determinations are published in OSD Administrative Instruction 81; 32 CFR part 311; or may be obtained from the system manager.”

* * * * *

[FR Doc. 2015-28053 Filed 11-3-15; 8:45 am]

BILLING CODE 5001-06-P